EXPORT-IMPORT BANK

[Public Notice 75]

Agency Information Collection Activities: Proposed Collection; Comment Request

AGENCY: Export-Import Bank of the U.S.

ACTION: Notice and request for comments.

SUMMARY: The Export-Import Bank of the United States (Ex-Im Bank) provides working capital guarantees to lenders. In assessing the creditworthiness of an applicant, Ex-Im Bank reviews EIB Form 84-1. This form provides information which allows the Bank to obtain legislatively required reasonable assurance of repayment, as well as to fulfill other statutory requirements. The form has had some minor change in content and requires a three-year extension.

DATES: Written comments should be received on or before July 5, 2005 to be assured of consideration.

ADDRESSES: Direct all comments and requests for additional information to Pamela Bowers, Export-Import Bank of the U.S., 811 Vermont Avenue, NW., Washington, DC 20571 (202) 565-3792, or pamela.bowers@exim.gov.

SUPPLEMENTARY INFORMATION: Titles and Form Numbers: U.S. Small Business Administration, Export-Import Bank of the United States Joint Application for Working Capital Guarantee.

OMB Number: 3048-0003.

Form Number: EIB-SBA 84-1 (Revised 2/2005).

Type of Review: Revision and extension of expiration date.

Annual Number of Respondents: 600.

Estimated Time Per Respondent: 2 Hours.

Annual Burden Hours: 1,200.

Frequency of Reporting or Use: Upon application for guarantees or working capital loans advanced by the lenders to U.S. exporters.

Dated: April 29, 2005.
Solomon Bush,
Agency Clearance Officer.

BILLING CODE 6690-01-M

[FR Doc. 05-8913 Filed 5-4-05; 8:45 am]

BILLING CODE 6690-01-C